DEPARTMENT OF COMMERCE

International Trade Administration

[A-570-851]

Certain Preserved Mushrooms From the People's Republic of China: Preliminary Results of Antidumping Duty New Shipper Review; 2013-2014

AGENCY: Enforcement and Compliance, International Trade Administration, Commerce.

DATES: Effective January 22, 2015.

SUMMARY: The Department of Commerce (the Department) is conducting a new shipper review of Dezhou Kaihang Agricultural Science Technology Co., Ltd. (Dezhou Kaihang) regarding the antidumping duty order on certain preserved mushrooms from the People's Republic of China (the PRC). The period of review (POR) is February 1, 2013, through February 28, 2014.¹ We preliminarily find that Dezhou Kaihang made a sale of subject merchandise at less than normal value. Interested parties are invited to comment on these preliminary results.

¹ The Department extended the review period for this new shipper review by 28 days until February 28, 2014 to capture the entry associated with the sale made by Dezhou Kaihang during the POR. See 19 CFR 351.214(f)(2)(ii); see also Certain Preserved Mushrooms from the People's Republic of China; Initiation of New Shipper Review; 2013-2014, 79 FR 17505 (March 28, 2014).

FOR FURTHER INFORMATION CONTACT: Michael J. Heaney or Robert James, AD/CVD Operations, Office VI, Enforcement and Compliance, International Trade Administration, U.S. Department of Commerce, 14th Street and Constitution Avenue NW., Washington, DC 20230; telephone: (202) 482-4475 or (202) 482-0649, respectively.

SUPPLEMENTARY INFORMATION:

Scope of the Order

The products covered by this order are certain preserved mushrooms, whether imported whole, sliced, diced, or as stems and pieces. The certain preserved mushrooms covered under this order are the species Agaricus bisporus and Agaricus bitorquis. “Certain Preserved Mushrooms” refers to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing. The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and customs purposes, the written description of the scope of this order is dispositive.²

² For a complete description of the scope of the order see Decision Memorandum for the Preliminary Results of the New Shipper Review of Dezhou Kaihang in Certain Preserved Mushrooms from the People's Republic of China; 2013/2014, from Christian Marsh, Deputy Assistant Secretary for Antidumping and Countervailing Duty Operations, to Paul Piquado, Assistant Secretary for Enforcement and Compliance, dated January 14, 2015 (Preliminary Decision Memorandum), issued concurrently with and hereby adopted by this notice.

Methodology

The Department is conducting this review in accordance with section 751(a)(2)(B) of the Tariff Act of 1930, as amended (the Act), and 19 CFR 351.214. Export prices have been calculated in accordance with section 772 of the Act. Because the PRC is a nonmarket economy within the meaning of section 771(18) of the Act, normal value has been calculated in accordance with section 773(c) of the Act. For a full description of the methodology underlying our conclusions, see the Preliminary Decision Memorandum.

The Preliminary Decision Memorandum is a public document and is on file electronically via Enforcement and Compliance's Antidumping and Countervailing Duty Centralized Electronic Service System (ACCESS).³ ACCESS is available to registered users at https://access.trade.gov and available to all parties in the Central Records Unit, room 7046 of the main Department of Commerce building. In addition, a complete version of the Preliminary Decision Memorandum can be accessed directly on the internet at http://enforcement.trade.gov/frn/. The signed Preliminary Decision Memorandum and electronic versions of the Preliminary Decision Memorandum are identical in content.

³ On November 24, 2014, Enforcement and Compliance changed the name of Enforcement and Compliance's AD and CVD Centralized Electronic Service System (“IA ACCESS”) to AD and CVD Centralized Electronic Service System (“ACCESS”). The Web site location was changed from http://iaacess.trade.gov to http://access.trade.gov. The Final Rule changing the references in 19 CFR 351.303 can be found at 79 FR 69046 (November 20, 2014).

Preliminary Results of New Shipper Review

The Department preliminarily determines that the following weighted-average dumping margin exists:

Manufacturer/Exporter | Weighted-average dumping margin (percent)
Shandong Fengyu Edible Fungus Co., Ltd./Dezhou Kaihang Agricultural Science Technology Co., Ltd. | 168.90

Disclosure and Public Comment

The Department will disclose calculations performed for these preliminary results to the parties within five days of the date of publication of this notice in accordance with 19 CFR 351.224(b). Interested parties may submit case briefs by no later than 30 days after the date of publication of these preliminary results of review.⁴ Rebuttals to case briefs, limited to the arguments raised in those comments, may be filed by no later than five days after case briefs are due.⁵ A table of contents, list of authorities used, and an executive summary of issues should accompany any brief submitted to the Department.⁶ The summary should be limited to five pages total, including footnotes.

⁴ See 19 CFR 351.309(c).

⁵ See 19 CFR 351.309(d).

⁶ See 19 CFR 351.309(c)(2) and (d)(2).

Any interested party may request a hearing within 30 days of publication of this notice.⁷ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁸

⁷ See 19 CFR 351.310(c).

⁸ See 19 CFR 351.310(d).

All submissions, with limited exceptions, must be filed electronically using ACCESS. An electronically filed document must be received successfully in its entirety by 5 p.m. Eastern Time (“ET”) on the due date. Documents excepted from the electronic submission requirements must be filed manually (i.e., in paper form) with the APO/Dockets Unit in Room 1870 and stamped with the date and time of receipt by 5 p.m. ET on the due date.⁹

⁹ See Antidumping and Countervailing Duty Proceedings: Electronic Filing Procedures; Administrative Protective Order Procedures, 76 FR 39263 (July 6, 2011).

The Department intends to issue the final results of this new shipper review, which will include the results of its analysis of issues raised in any such comments, within 90 days of the issuance of these preliminary results, pursuant to section 751(a)(2)(B)(iv) of the Act.

Assessment Rates

Upon issuing the final results of this new shipper review, the Department shall determine, and U.S. Customs and Border Protection (CBP) shall assess, antidumping duties on all appropriate entries covered by this review.¹⁰ The Department intends to issue assessment instructions to CBP 15 days after the date of publication of the final results of this new shipper review.

¹⁰ See 19 CFR 351.212(b)(1).

In this new shipper review, we calculated a per unit rate for each importer by dividing the total dumping margins for reviewed sales to that party by the total sales quantity associated with those transactions. For duty assessment rates calculated on this basis, we will direct CBP to assess the resulting per-unit amount against the entered quantity of the subject merchandise. If the respondent's weighted-average dumping margin is above de minimis, we will calculate an importer-specific per-unit duty assessment rate in accordance with 19 CFR 351.212(b)(1), based on the ratio of the total amount of dumping calculated for the importer's examined sales to the total quantity entered by that importer. Then, we will instruct CBP to assess antidumping duties on all appropriate entries covered by this new shipper review. Where either the respondent's weighted-average dumping margin is zero or de minimis, or an importer-specific assessment rate is zero or de minimis, we will instruct CBP to liquidate the appropriate entries without regard to antidumping duties. Pursuant to a refinement in the Department's practice, for entries that were not reported in the U.S. sales database submitted by Dezhou Kaihang for this new shipper review, the Department will instruct CBP to liquidate such entries at the PRC-wide rate.¹¹

¹¹ For a full discussion of this practice, see Non-Market Economy Antidumping Proceedings: Assessment of Antidumping Duties, 76 FR 65694 (October 24, 2011).

The final results of this new shipper review shall be the basis for the assessment of antidumping duties on entries of merchandise covered by the final results of this review and for future deposits of estimated duties, where applicable.

Cash Deposit Requirements

The following cash deposit requirements will be effective upon publication of the final results of this new shipper review for shipments of the subject merchandise from the PRC entered, or withdrawn from warehouse, for consumption on or after the publication date, as provided by section 751(a)(2)(C) of the Act: (1) For merchandise produced by Shandong Fengyu Edible Fungus Co., Ltd. and exported by Dezhou Kaihang, the cash deposit rate will be that established in the final results of this review (except, if the rate is zero or de minimis, then zero cash deposit will be required); (2) for subject merchandise exported by Dezhou Kaihang but not produced by Shandong Fengyu Edible Fungus Co. Ltd., the cash deposit rate will be the rate for the PRC-wide entity; and (3) for subject merchandise produced by Shandong Fengyu Edible Fungus Co., Ltd. but not exported by Dezhou Kaihang, the cash deposit rate will be the rate applicable to the exporter. These deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

The Department is issuing and publishing these preliminary results in accordance with sections 751(a)(2)(B) and 777(i)(1) of the Act and 19 CFR 351.221(b)(4).

Dated: January 14, 2015.
Paul Piquado,
Assistant Secretary for Enforcement and Compliance.

Appendix

List of Topics Discussed in the Preliminary Decision Memorandum

I. Summary

II. Background

III. Scope of the Order

IV. Discussion of the Methodology

a. Bona Fide Sale Analysis

b. Non-Market Economy Country Status

c. Separate Rates

d. Separate Rate Recipient

e. Surrogate Country

V. Fair Value Comparisons

VI. Results of Differential Pricing Analysis

VII. Date of Sale

VIII. U.S. Price

IX. Normal Value

X. Factor Valuations

XI. Currency Conversions

XII. Recommendation

[FR Doc. 2015-01052 Filed 1-21-15; 8:45 am]

BILLING CODE 3510-DS-P